OFFICE OF THE UNITED STATES TRADE REPRESENTATIVE

[Docket Number USTR-2020-0010]

Field Hearings Regarding Trade Distorting Policies That May Be Affecting Seasonal and Perishable Products in U.S. Commerce

AGENCY: Office of the United States Trade Representative.

ACTION: Notice of public hearing and request for comments.

SUMMARY: The Office of the United States Trade Representative (USTR) and the Departments of Commerce and Agriculture will convene public hearings in Florida and Georgia to hear firsthand from interested persons on trade distorting policies that may be causing harm to U.S. seasonal and perishable producers (namely, of fresh fruits and vegetables) and contributing to unfair pricing in the U.S. market, and to solicit feedback on how the Administration can better support these producers and redress any unfair harm.

DATES:

Field Hearing Dates and Locations

April 7, 2020 at 9:00 a.m. EST: Grimes Family Agricultural Center, 2508 W Oak Avenue, Plant City, Florida 33563.

April 9, 2020 at 9:00 a.m. EST: Rainwater Conference Center, 1 Meeting Place, Valdosta, Georgia 31601.

Submission Deadlines

March 19, 2020 at 11:59 p.m. EST: Deadline for submission of requests to appear at either of the field hearings.

March 26, 2020 at 11:59 p.m. EST: Deadline for submission of hearing statements and written comments.

ADDRESSES: USTR strongly prefers electronic submissions made through the Federal eRulemaking portal: http://www.regulations.gov (Regulations.gov). Follow the instructions for submission in section II below. The docket number is USTR-2020-0010. For alternatives to online submissions, please contact Trey Forsyth in advance of the submission deadline at (202) 395-8583.

FOR FURTHER INFORMATION CONTACT: For procedural questions, questions regarding the field hearings, or to request special accommodations, please contact Trey Forsyth at (202) 395-8583.

SUPPLEMENTARY INFORMATION:

I. Background

USTR and the Departments of Commerce and Agriculture will convene public hearings in Florida and Georgia to hear firsthand from interested persons regarding trade distorting policies that may be affecting seasonal and perishable products in U.S. commerce. The hearings are open to the public, but space may be limited. Accordingly, attendees will be accommodated on a first come, first served basis.

USTR invites comments and supporting documentation from interested persons on the following issues:

• Trade distorting policies that may be contributing to unfair pricing in the U.S. market and causing harm to U.S. seasonal and perishable producers in U.S. commerce.

• How the Administration can better support these producers and redress unfair harm.

II. Hearing Participation—Submission Requirements

To appear and provide testimony at either of the field hearings, you must submit a request to do so by the March 19, 2020, 11:59 p.m. EST deadline.

All parties who wish to testify also must submit the statement they intend to present at the hearing by the March 26, 2020, 11:59 p.m. EST deadline. Remarks at the hearing will be limited to five minutes, and might be further limited if circumstances warrant, to allow adequate time for questions from the panel.

Interested parties who do not want to appear at the hearing may submit comments by the March 26 deadline.

To submit a request to appear and provide testimony, go to www.regulations.gov. To make a submission via Regulations.gov, enter docket number USTR-2020-0010 in the `search for' field on the home page and click `search.' The site will provide a search-results page listing all documents associated with this docket. Find a reference to this notice by selecting `notice' under `document type' in the `filter results by' section on the left side of the screen and click on the link entitled `comment now.' In the “comment” field on the next page, identify the hearing at which you would like to testify and provide the full name, address, email address, and telephone number of the person who wishes to present the testimony.

To submit a written statement, the Regulations.gov website allows users to provide comments by filling in a `type comment' field or by attaching a document using the `upload file(s)' field. USTR prefers that you provide submissions in an attached document. The file name should include the name of the person who will be presenting the testimony, or if not testifying, the name of the person submitting the statement. The name of the presenter also should be clear in the content of the file itself. All submissions must be in English and be prepared in (or be compatible with) Microsoft Word (.doc) or Adobe Acrobat (.pdf) formats. Include any data attachments to the submission in the same file as the submission itself, and not as separate files.

For additional information on using the Regulations.gov website, please consult the resources provided on the website by clicking on `how to use this site' on the left side of the home page.

You must clearly designate business confidential information (BCI) by marking the submission `BUSINESS CONFIDENTIAL' at the top and bottom of the cover page and each succeeding page, and indicating, via brackets, the specific information that is confidential.

A submitter requesting that USTR treat information in a submission as BCI must certify that the information is business confidential and would not customarily be released to the public by the submitter.

You must include `business confidential' in the `type comment' field, and must add `business confidential' to the end of your file name for any attachments.

For any submission containing BCI, you also must attach a separate non-confidential version (i.e., not as part of the same submission with the BCI version), indicating where confidential information has been redacted. USTR will place the non-confidential version in the docket and it will be available for public inspection.

USTR may not accept BCI submissions that do not have the required markings, or are not accompanied by a properly marked non-confidential version, and may consider the submission to be a public document.

Submissions responding to this notice, except for information granted BCI status, will be available for public viewing at Regulations.gov upon completion of processing. You can view submissions by entering docket number USTR-2020-0010 in the search field at Regulations.gov.

Joseph Barloon,
General Counsel, Office of the U.S. Trade Representative.

[FR Doc. 2020-04827 Filed 3-9-20; 8:45 am]

BILLING CODE 3290-F0-P